DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology, U.S. Department of Commerce.

Title: Community Resilience Panel.

OMB Control Number: 0693-XXXX.

Form Number(s): None.

Type of Request: Notice, regular submission, information collection.

Number of Respondents: 200.

Average Hours Per Response: .25 Hr.

Burden Hours: 50.

Needs and Uses: The Panel is established under a contract to support NIST in its role under the NIST authorities set forth in 15 U.S.C. 272(b)(10), (c)(12) and (c)(15) and to fulfill NIST's responsibilities described in the President's Climate Action Plan of 2013. The Panel will identify, describe, and prioritize guidance for comprehensive community resilience planning across the United States. The Panel membership form asks the applicant to provide his/her name, title, address, telephone, email address, organization, education, relevant work experience, standards developing experience, professional associations, stakeholder and standing committee areas of interest, as well as other relevant experience and areas of interest. The information provided by the applicants will be used to determine the background and skills of the Panel applicants. This information will also allow the Panel Administrator to organize the Panel and select leaders who will use their expertise and experience in a consensus process.

Affected Public: Organizations and individuals associated with the following stakeholder categories: Business and Industry, Building Construction and Safety, Community Planning, Community Social Institutions, Communications, Energy, Transportation and Water/Wastewater Systems, Facility Operations and Maintenance, Federal, Tribal, Regional, State and Local Governments, Insurance/Reinsurance, Public Health and Healthcare, Education and Research, Relief Services, Standards Development and Vulnerable Populations.

Frequency: Once.

Respondent's Obligation: Each respondent will provide information one time that will be used for Panel membership and leadership determinations.

This information collection request may be viewed at www.fedreg.gov. Follow the instructions to view Department of Commerce collections currently under review by OMB.

Written comments and recommendations for the proposed information collection should be sent within 30 days of publication of this notice to OIRA_Submission@omb.eop.gov or fax to (202) 395-5806.

Dated: September 28, 2015.
Glenna Mickelson,
Management Analyst, Office of the Chief Information Officer.

[FR Doc. 2015-25006 Filed 10-1-15; 8:45 am]

BILLING CODE 3510-13-P